FEDERAL RESERVE SYSTEM

Change in Bank Control Notices; Acquisitions of Shares of Banks or Bank Holding Companies

The notificants listed below have applied under the Change in Bank Control Act (12 U.S.C. 1817(j) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 13, 2000.

A. Federal Reserve Bank of St. Louis (Randall C. Sumner, Vice President) 411 Locust Street, St. Louis, Missouri 63166-2034:

1. Leon Alper Felman, Clayton, Missouri; to retain voting shares of Allegiant Bancorp, Inc., St. Louis, Missouri, and thereby indirectly retain voting shares of Allegiant Bank, St. Louis, Missouri.

B. Federal Reserve Bank of Minneapolis (JoAnne F. Lewellen, Assistant Vice President) 90 Hennepin Avenue, Minneapolis, Minnesota 55480-0291:

1. John and Nancy Brown, New Rockford, North Dakota; Mark and Marlys Brown, Hannaford, North Dakota; Steven and Cheryl Steinborn, Jamestown, North Dakota; and Security State Bank of North Dakota Employee Stock Ownership Plan, New Rockford, North Dakota; to retain voting shares of Security State Bank Holding Company, New Rockford, North Dakota, and thereby indirected retain voting shares of Security State Bank of North Dakota, Hannaford, North Dakota.

Board of Governors of the Federal Reserve System, March 27, 2000.
Robert deV. Frierson,
Associate Secretary of the Board.

[FR Doc. 00-7892 Filed 3-29-00; 8:45 am]

BILLING CODE 6210-01-P